DEPARTMENT OF HOMELAND SECURITY

Federal Emergency Management Agency

44 CFR Part 67

[Docket No. FEMA-B-7465]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD). +Elevation in feet (NAVD). #Depth in feet above ground: Effective | *Elevation in feet (NGVD). +Elevation in feet (NAVD). #Depth in feet above ground: Modified | Communities affected
Benton County, Arkansas and Incorporated Areas
Little Osage Creek | Approximately 500 feet upstream from the intersection with West Fish Hatchery Road | None | +1258 | City of Centerton.
| Approximately 100 feet upstream from the intersection with Centerton Blvd | None | +1278
McKisic Creek | At Confluence with Little Sugar Creek | None | +1037 | Benton County (Unincorporated Areas), City of Bentonville, City of Centerton.
| Approximately 300 feet upstream from the intersection of Harvest Street and Tyler Street | None | +1291
Osage Tributary 1 | Approximately 1000 feet downstream from the intersection with Stoney Brook Road | +1196 | +1197 | Benton County (Unincorporated Areas), City of Bentonville, City of Rogers.
| Approximately 100 feet upstream from the intersection with 14th Street | +1300 | +1302
Osage/Turtle Creek | Approximately 500 feet downstream from the intersection of Inglewood Road and Osage Creek Road | +1159 | +1160 | Benton County (Unincorporated Areas), City of Cave Springs, City of Rogers.
| Approximately 200 feet downstream from the intersection of West Persimmon Street and North 4th Street | None | +1347
Tributary 3 to Sager Creek | Approximately 1000 feet downstream from the intersection with Orchard Hill Road | +1040 | +1042 | Benton County (Unincorporated Areas), City of Siloam.
| Approximately 150 feet upstream from the intersection with North Mt. Olive Street | +1086 | +1087
# Depth in feet above ground.
* National Geodetic Vertical Datum.
+ National American Vertical Datum.
ADDRESSES
City of Bentonville
Maps are available for inspection at 305 Southwest A Street, Bentonville, AR 72712.
Send comments to the Honorable Terry Coberly, Mayor, City of Bentonville, 117 West Central Street, Bentonville, AR 72712.
City of Cave Springs
Maps are available for inspection at 137 N. Main, Cave Springs, AR 72718.
Send comments to the Honorable Thekla Wallis, Mayor, City of Cave Springs, 137 N. Main, Cave Springs, AR 72718.
City of Centerton
Maps are available for inspection at 290 Main Street, Centerton, AR 72719.
Send comments to the Honorable Ken Williams, Mayor, City of Centerton, P.O. Box 208, Centerton, AR 72719.
City of Rogers
Maps are available for inspection at 207 South 2nd, Rogers, AR 72756.
Send comments to the Honorable Steve Womack, Mayor, City of Rogers, 300 West Poplar, Rogers, AR 72756.
City of Siloam Springs
Maps are available for inspection at 400 North Broadway, Siloam Springs, AR 72761.
Send comments to the Honorable M.L. Van Poucke, Jr., Mayor, City of Siloam Springs, 400 North Broadway, Siloam Springs, AR 72761.
Unincorporated Areas of Benton County
Maps are available for inspection at 905 Northwest 8th Street, Bentonville, AR 72712.
Send comments to the Honorable Gary Black, Judge, Benton County, 905 Northwest 8th Street, Bentonville, AR 72712.
Town of Vinalhaven, Knox County, Maine
Atlantic Ocean | At Crockett Cove | None | +10 | Town of Vinalhaven.
| At Carvers Pond | None | +10 |
| At Old Harbor, Northern Shore | None | +11 |
| At Eastern Shore of Carvers Harbor | None | +11 |
| At Northern end of Carvers Harbor | None | +12 |
| At Coombs Neck, Northern Shore | None | +13 |
| At Sand Cove | None | +14 |
| At Clam Cove of Roberts Harbor | None | +16
| At Southern point of Vinalhaven Island opposite Carvers Island | None | +18 |
* National Geodetic Vertical Datum.
# Depth in feet above ground.
+ North American Vertical Datum.
ADDRESSES
Maps are available for inspection at the Town of Vinalhaven, Town Office, West Main, Vinalhaven, Maine 04863.
Send comments to The Honorable James Moore, Chairman, 19 Washington School Road, Vinalhaven, Maine 04863.
Caswell County, North Carolina and Incorporated Areas
Benton Branch | At the confluence with Stony Creek | None | +603 | Caswell County (Unincorporated Areas).
| Approximately 0.5 mile upstream of Senior Alfred Road | None | +680
Tributary 1 | At the confluence with Benton Branch | None | +619 | Caswell County (Unincorporated Areas).
| Approximately 1.7 miles upstream of the confluence with Benton Branch | None | +707
Tributary 2 | At the confluence with Benton Branch | None | +634 | Caswell County (Unincorporated Areas).
| Approximately 1.0 mile upstream of Simmons Road | None | +725
Grays Branch | At the confluence with Stony Creek | None | +618 | Caswell County (Unincorporated Areas).
| Approximately 1.5 miles upstream of Shaw Road | None | +738
Tributary 1 | At the confluence with Grays Branch | None | +623 | Caswell County (Unincorporated Areas).
| Approximately 2.1 miles upstream of the confluence with Grays Branch | None | +724
Tributary 2 | At the confluence with Grays Branch | None | +641 | Caswell County (Unincorporated Areas).
| Approximately 2.9 miles upstream of Underwood Road | None | +754 |
Hughes Mill Creek | Approximately 0.5 mile upstream of the confluence with Jordan Creek | None | +610 | Caswell County (Unincorporated Areas).
| Approximately 1.2 miles upstream of North Carolina Highway 62 | None | +657
Stony Creek | Approximately 0.3 mile downstream of the Caswell/Alamance County boundary | None | +595 | Caswell County (Unincorporated Areas).
| Approximately 2.4 miles upstream of Moore Road | None | +712
Toms Creek | At the Caswell/Alamance County boundary | None | +596 | Caswell County (Unincorporated Areas).
| Approximately 0.6 mile upstream of Kerr's Chapel Road | None | +637
# Depth in feet above ground.
* National Geodetic Vertical Datum.
+ National American Vertical Datum.
ADDRESSES
Caswell County (Unincorporated Areas)
Maps available for inspection at the Caswell County Planning Department, 144 Courthouse Square, Yancyville, North Carolina.
Send comments to Mr. Nathaniel Hall, Chairman of the Caswell County Commissioners, P.O. Box 98, Yancyville, North Carolina 27379.
Guilford County, North Carolina and Incorporated Areas
East Belews Creek Tributary 1 | At the Guilford/Forsyth County boundary | None | +733 | Town of Stokesdale.
| Approximately 1.2 miles upstream of Coldwater Road | None | +786 |
Tributary 1A | At the Guilford/Forsyth County boundary | None | +733 | Town of Stokesdale.
| Approximately 680 feet upstream of Coldwater Road | None | +758 |
Tributary 2 | At the Guilford/Forsyth County boundary | None | +750 | Guilford County (Unincorporated Areas).
| Approximately 0.7 mile upstream of Water Oak Road | None | +776 |
Kennedy Mill Creek | At the Guilford/Davidson County boundary | None | +801 | City of High Point.
| Approximately 900 feet upstream of Hodgin Street | None | +848 |
Tributary 1 | At the Guilford/Davidson County boundary | None | +815 | City of High Point.
| Approximately 0.3 mile upstream of Woodbine Street | None | +903 |
Tributary 1A | At the confluence of Kennedy Mill Creek Tributary 1 | None | +816 | City of High Point.
| Approximately 0.3 mile upstream of the confluence with Kennedy Mill Creek Tributary 1 | None | +839 |
Kings Creek | At the Guilford/Forsyth County boundary | None | +724 | Guilford County (Unincorporated Areas), Town of Stokesdale.
| Approximately 1.4 miles upstream of Anthony Road | None | +815 |
Payne Creek | At the confluence of Payne Creek Tributary 2 | None | +826 | City of High Point.
| Approximately 130 feet upstream of Council Street | None | +858 |
Tributary 1 (Stream No. 99) | At State Route 68 | None | +826 | City of High Point.
| Approximately 170 feet upstream of West Rotary Drive | None | +868 |
Tributary 1A (Stream No. 97) | Approximately 100 feet upstream of State Route 68 | None | +822 | City of High Point.
| Approximately 800 feet upstream of Carr Street | None | +863
Tributary 1B | Approximately 50 feet upstream of the confluence with Payne Creek Tributary 1 (Stream No. 99) | None | +807 | City of High Point.
| Approximately 0.2 mile upstream of the confluence with Payne Creek | None | +834 |
Tributary 1C | Approximately 200 feet upstream of the confluence with Payne Creek Tributary 1 (Stream No. 99) | None | +810 | City of High Point.
| Approximately 0.3 mile upstream of the confluence with Payne Creek Tributary 1 (Stream No. 99) | None | +839 |
Tributary 2 | At the confluence with Payne Creek | None | +826 | City of High Point.
| Approximately 460 feet upstream of North Rotary Drive | None | +868
Rich Fork Tributary 1 (Stream No. 92) | Approximately 100 feet upstream of the confluence of Rich Fork Tributary 1B (Stream No. 93) | None | +791 | City of High Point.
| Approximately 950 feet upstream of Greenwood Drive | None | +846
Tributary 1 B1 | Approximately 100 feet upstream of the confluence with Rich Fork Tributary 1B (Stream No. 93) | None | +822 | City of High Point.
| Approximately 375 feet upstream of Idol Street | None | +858 |
Tributary 1A | Approximately 100 feet downstream of Carolyndon Drive | +780 | +781 | City of High Point.
| Approximately 600 feet upstream of Westover Drive | None | +853 |
Tributary 2 | At the Guilford/Davidson County boundary | None | +807 | City of High Point.
| Approximately 0.3 mile upstream of the Guilford/Davidson County boundary | None | +827
Rich Fork Tributary 1B (Stream No. 93) | Approximately 50 feet upstream of State Route 68 | None | +833 | City of High Point.
| Approximately 400 feet upstream of Pinehurst Drive | None | +833
# Depth in feet above ground.
* National Geodetic Vertical Datum.
+ National American Vertical Datum.
ADDRESSES
City of High Point
Maps available for inspection at the High Point City Hall, 211 South Hamilton Street, High Point, North Carolina.
Send comments to The Honorable Rebecca Smothers, Mayor of the City of High Point, P.O. Box 230, High Point, North Carolina 27261.
Town of Stokesdale
Maps available for inspection at the Stokesdale Town Hall, 8416 U.S. Highway 158, Stokesdale, North Carolina.
Send comments to The Honorable Randle L. Jones, Mayor of the Town of Stokesdale, P.O. Box 465, Stokesdale, North Carolina 27357.
Unincorporated Areas of Guilford County
Maps available for inspection at the Guilford County Planning and Development Office, 201 South Eugene Street, Greensboro, North Carolina.
Send comments to Mr. Willie Best, Guilford County Manager, P.O. Box 3427, Greensboro, North Carolina 27402.
Halifax County, North Carolina and Incorporated Areas
Bells Branch | At the confluence with Chockoyotte Creek | +117 | +116 | City of Roanoke Rapids.
| Approximately 850 feet upstream of the confluence with Chockoyotte Creek | +117 | +116
Bens Creek | Approximately 1.5 miles upstream of the Halifax/Warren County boundary | None | +199 | Unincorporated Areas of Halifax County.
Chockoyotte Creek | At the confluence with Roanoke River | +56 | +57 | Unincorporated Areas of Halifax County, City of Roanoke Rapids.
| Approximately 2.0 miles upstream of Zoo Road | None | +202 | Town of Weldon.
Chockoyotte Creek Tributary | At the confluence with Chockoyotte Creek | +83 | +79 | Town of Weldon, City of Roanoke Rapids, Unincorporated Areas of Halifax County.
| Approximately 30 feet downstream of County Road | +88 | +87
Tributary A | At the confluence with Chockoyotte Creek | +92 | +94 | Unincorporated Areas of Halifax County, City of Roanoke Rapids.
| Approximately 1,490 feet upstream of American Legion Road | None | +135
Tributary B | At the confluence with Chockoyotte Creek | +112 | +114 | City of Roanoke Rapids.
| At the downstream side of Julian R. Allsbrook Highway | None | +127
Conoconnara Swamp | At the confluence with Roanoke River | +41 | +43 | Unincorporated Areas of Halifax County.
| Approximately 1,000 feet upstream of NC-481 | None | +80
Tributary 1 | At the confluence with Conoconnara Swamp | None | +58 | Unincorporated Areas of Halifax County.
| Approximately 3.5 miles upstream of the confluence with Conoconnara Swamp | None | +67
Tributary 2 | At the confluence with Conoconnara Swamp | None | +72 | Unincorporated Areas of Halifax County.
| Approximately 0.7 mile upstream of the confluence with Conoconnara Swamp | None | +78
Tributary 2A | At the confluence with Conoconnara Swamp Tributary 2 | None | +77 | Unincorporated Areas of Halifax County.
| Approximately 0.8 mile upstream of the confluence with Conoconnara Swamp | None | +85
Deep Creek (into Roanoke River) | Approximately 0.7 mile downstream of Thema Road (SR 1400) | None | +133 | Unincorporated Areas of Halifax County.
| Approximately 80 feet downstream of Roper Springs Road (SR 1525) | None | +189
Tributary 1 | At the confluence with Deep Creek (into Roanoke River) | None | +136 | Unincorporated Areas of Halifax County.
| Approximately 0.4 mile upstream of the confluence with Deep Creek (into Roanoke River) | None | +151
Tributary 2 | At the confluence with Deep Creek (into Roanoke River) | None | +146 | Unincorporated Areas of Halifax County.
| Approximately 1,375 feet upstream of the confluence with Deep Creek (into Roanoke River) Tributary 2A | None | +162
Tributary 2A | At the confluence with Deep Creek (into Roanoke River) Tributary 2 | None | +146 | Unincorporated Areas of Halifax County.
| Approximately 1,300 feet upstream of the confluence with deep Creek (into Roanoke River) Tributary 2 | None | +159
Tributary 4 | At the confluence with Deep Creek into Roanoke River) | None | +175 | Unincorporated Areas of Halifax County.
| Approximately 0.5 mile upstream of the confluence with Deep Creek (into Roanoke River) | None | +181
Tributary 3 | At the confluence with Deep Creek (into Roanoke River) | None | +154 | Unincorporated Areas of Halifax County.
| Approximately 1,700 feet upstream of the confluence with Deep Creek (into Roanoke River) | None | +163
Hales Branch | At the upstream side of Zoo Road | None | +215 | Unincorporated Areas of Halifax County.
| Approximately 1,200 feet upstream of Zoo Road | None | +227
Hales Mill Pond Branch | At the confluence with Conoconnara Swamp | None | +67 | Unincorporated Areas of Halifax County.
| Approximately 300 feet upstream of Old 125 Road (SR 1103) | None | +73
Keehukee Swamp | At the confluence with Roanoke River | None | +28 | Unincorporated Areas of Halifax County.
> | Approximately 250 feet downstream of Railroad | None | +61
Tributary 1 | At the confluence with Keehukee Swamp | None | +28 | Unincorporated Areas of Halifax County.
| Approximately 1,650 feet upstream of the confluence with Keehukee Swamp | None | +28
Tributary 2 | Approximately 2.1 miles upstream of the confluence with Keehukee Swamp | None | +27 | Unincorporated Areas of Halifax County.
| At the confluence with Keehukee Swamp | None | +29
Little Quankey Creek | Approximately 750 feet upstream of Interstate 95 | None | +134 | Unincorporated Areas of Halifax County.
| Approximately 600 feet upstream of NC-48 | None | +176
Little Quankey Creek | At the confluence with Quankey Creek | None | +87 | Town of Halifax.
| Approximately 0.75 mile upstream of NC-903 | None | +87
Nash Creek | Approximately 1.1 miles upstream of the confluence with Bells Branch | None | +143 | Unincorporated Areas of Halifax County.
| Approximately 2.5 miles upstream of the confluence with Bells Branch | None | +172
Quankey Creek | At the confluence with Roanoke River | None | +50 | Unincorporated Areas of Halifax County.
| Approximately 0.5 mile upstream of SR-301 (South King Street) | None | +87
Quankey Creek | At the confluence with Roanoke River | None | +50 | Town of Halifax.
| At the confluence with Little Quankey Creek | None | +87
Roanoke River | At the Martin/Bertie/Halifax County boundary | None | +28 | Unincorporated Areas of Halifax County, City of Roanoke Rapids, Town of Halifax, Town of Weldon.
| At the downstream side of Gaston Dam | +133 | +136
Webbs Mill Branch | At the confluence with Keehukee Swamp | None | +34 | Unincorporated Areas of Halifax County.
| Approximately 0.3 mile upstream of the confluence with Webbs Mill Branch Tributary 2 | None | +50
Tributary 1 | At the confluence with Webbs Mill Branch | None | +38 | Unincorporated Areas of Halifax County.
| Approximately 0.7 mile upstream of the confluence with Webbs Mill Branch | None | +57
Tributary 2 | At the confluence with Webbs Mill Branch | None | +45 | Unincorporated Areas of Halifax County, Town of Scotland Neck.
| Approximately 0.6 mile upstream of the confluence with Webbs Mill Branch | None | +51
# Depth in feet above ground.
* National Geodetic Vertical Datum.
+ National American Vertical Datum.
ADDRESSES
City of Roanoke Rapids
Maps are available for inspection at the City of Roanoke Rapids Planning Department, 1040 Roanoke Avenue, Roanoke Rapids, North Carolina.
Send comments to The Honorable D. N. Bealle, Mayor, City of Roanoke Rapids, P.O. Box 38, Roanoke Rapids, North Carolina 27870.
Town of Halifax
Maps are available for inspection at the Halifax Town Hall, 24 South King Street, Halifax, North Carolina.
Send comments to The Honorable Gerald Wright, Mayor, Town of Halifax, P.O. Box 222, Halifax, North Carolina 27839.
Town of Scotland Neck
Maps are available for inspection at the Scotland Neck Town Hall, 1310 Main Street, Scotland Neck, North Carolina.
Send comments to The Honorable Robert Partin, Mayor, Town of Scotland Neck, P.O. Box 537, Scotland Neck, North Carolina 27874.
Town of Weldon
Maps are available for inspection at the Weldon Town Hall, 109 Washington Street, Weldon, North Carolina.
Send comments to The Honorable G.W. Draper, Jr., Mayor, Town of Weldon, P.O. Box 551, Weldon, North Carolina 27890.
Unincorporated Areas of Halifax County
Maps are available for inspection at the Halifax County Public Works Department, 26 North King Street, Room 102, Halifax, North Carolina.
Send comments to Ms. Carolynn Johnson, Acting Chairman, Halifax County Board of Commissioners, P.O. Box 38, Halifax, North Carolina 27839.
Martin County, North Carolina
Beaverdam Creek | Approximately 200 feet downstream of Alternate U.S. Highway 64 | None | +42 | Unincorporated Areas of Martin County.
| Approximately 0.7 mile upstream of Alternate U.S. Highway 64 | None | +52
Conoho Creek | At the confluence with Roanoke River | +12 | +18 | Unincorporated Areas of Martin County.
| Approximately 1.7 miles upstream of Iron Mine Springs Road | None | +81
Tributary 1 | At the confluence with Conoho Creek | None | +32 | Unincorporated Areas of Martin County, Town of Hamilton.
| Approximately 2.4 miles upstream of the confluence with Conoho Creek | None | +58
Tributary 2 | At the confluence with Conoho Creek | None | +41 | Unincorporated Areas of Martin County.
| Approximately 900 feet upstream of State Route 1325 | None | +74
Tributary 2A | At the confluence with Conoho Creek Tributary 2 | None | +44 | Unincorporated Areas of Martin County.
| Approximately 250 feet upstream of Cox Road | None | +63
Tributary 3 | At the confluence with Conoho Creek | None | +43 | Unincorporated Areas of Martin County.
| Approximately 670 feet upstream of Haislip Road | None | +68
Dog Branch | At the confluence with Ready Branch | None | +20 | Unincorporated Areas of Martin County.
| Approximately 1,800 feet upstream of Highways 13 and 64 | None | +39
Etheridge Swamp | At the confluence with Conoho Creek | None | +51 | Unincorporated Areas of Martin County, Town of Oak City.
| Approximately 2.4 miles upstream of Edmondson Road | None | +82
Tributary 1 | At the confluence with Etheridge Swamp | None | +56 | Unincorporated Areas of Martin County.
| Approximately 0.4 mile upstream of County Line Road | None | +88
Tributary 2 | At the confluence with Etheridge Swamp | None | +57 | Unincorporated Areas of Martin County.
| Approximately 1,700 feet upstream of Edmondson Road | None | +69
Tributary 3 | At the confluence with Etheridge Swamp | None | +60 | Unincorporated Areas of Martin County.
| Approximately 0.5 mile upstream of Edmondson Road | None | +71
Tributary 3A | At the confluence with Etheridge Swamp Tributary 3 | None | +60 | Unincorporated Areas of Martin County.
| Approximately 0.5 mile upstream of Edmondson Road | None | +69
Hardison Mill Creek | At the confluence with Sweetwater Creek | None | +17 | Unincorporated Areas of Martin County.
| Approximately 2.5 miles upstream of E.H. Williams Road (State Route 1538) | None | +41
Tributary 1 | At the confluence with Hardison Mill Creek | None | +21 | Unincorporated Areas of Martin County.
| Approximately 100 feet downstream of Fairview Church Road (State Route 1514) | None | +23
Tributary 2 | At the confluence with Hardison Mill Creek | None | +23 | Unincorporated Areas of Martin County.
| Approximately 1,100 feet upstream of Breasley Road | None | +43
Long Creek | At the confluence with Hardison Mill Creek | None | +22 | Unincorporated Areas of Martin County.
| Approximately 1,400 feet upstream of Hollow Pond Road | None | +38
Tributary 1 | At the confluence with Long Creek | None | +28 | Unincorporated Areas of Martin County.
| Approximately 0.5 mile upstream of the confluence with Long Creek | None | +34
Ready Branch | At the confluence with Sweetwater Creek | None | +17 | Unincorporated Areas of Martin County.
| Approximately 0.8 mile upstream of Bear Grass Road | None | +45
Roanoke River | At the Martin/Washington/Bertie County boundary | None | +7 | Unincorporated Areas of Martin County, Town of Hamilton, Town of Jamesville, Town of Williamston.
| At the Martin/Halifax/Bertie County boundary | None | +28
Tributary 4 | At the confluence with Roanoke River | None | +28 | Unincorporated Areas of Martin County.
| Approximately 1,500 feet upstream of the confluence with Roanoke River | None | +42
Tributary 4A | At the confluence with Roanoke River Tributary 4 | None | +28 | Unincorporated Areas of Martin County.
| Approximately 1,800 feet upstream of the confluence with Roanoke River Tributary 4 | None | +50
Skewakee Gut Canal | At the confluence with Roanoke River | +12 | +17 | Unincorporated Areas of Martin County, Town of Williamston.
| Approximately 1,300 feet upstream of West Main Street (State Route 1445) | None | +74
Smithwick Creek | At the confluence with Sweetwater Creek | None | +17 | Unincorporated Areas of Martin County.
| Approximately 4 miles upstream of Smithwick Creek Church Road | None | +43
Sweetwater Creek | At the confluence with Roanoke River | +9 | +16 | Unincorporated Areas of Martin County, Town of Williamston.
| At the confluence of Ready Branch and Smithwick Creek | None | +17
Welch Creek | At the confluence with Roanoke River | None | +7 | Unincorporated Areas of Martin County.
| Approximately 2.5 miles upstream of the confluence of Welch Creek Tributary 2 | None | +13
# Depth in feet above ground.
* National Geodetic Vertical Datum.
+ National American Vertical Datum.
ADDRESSES
Town of Hamilton
Maps available for inspection at the Hamilton Town Office, 101 North Front Street, Hamilton, North Carolina.
Send comments to The Honorable D.G. Matthews, III, Mayor of the Town of Hamilton, P.O. Box 249, Hamilton, North Carolina 27840.
Town of Jamesville
Maps available for inspection at the Jamesville Town Hall, 1211 Water Street, Jamesville, North Carolina.
Send comments to The Honorable Jane Wolfe, Mayor of the Town of Jamesville, P.O. Box 215, Jamesville, North Carolina 27846-0215.
Town of Oak City
Maps available for inspection at the Oak City Town Hall, 109 Commerce Street, Oak City, North Carolina.
Send comments to The Honorable Barbara Cotton, Mayor of the Town of Oak City, P.O. Box 298, Oak City, North Carolina 27857-0298.
Town of Williamston
Maps available for inspection at the Williamston Town Hall, Zoning Department, 106 East Main Street, Williamston, North Carolina.
Send comments to The Honorable Tommy Roberson, Mayor of the Town of Williamston, P.O. Box 506, Williamston, North Carolina 27892.
Unincorporated Areas of Martin County
Maps available for inspection at the Martin County Government Center, Building Inspections Department, 305 East Main Street, Williamston, North Carolina.
Send comments to Mr. Russell Overman, Martin County Manager, P.O. Box 668, Williamston, North Carolina 27892.
Stokes County, North Carolina
Ash Camp Creek | At the confluence with Town Fork Creek | None | +619 | Unincorporated Areas of Stokes County, Town of Walnut Cove.
| Approximately 1.4 miles upstream of Brook Cove Road (SR 1941) | None | +660
Beaverdam Creek | At the confluence with Big Creek | None | +898 | Unincorporated Areas of Stokes County.
| Approximately 0.7 mile upstream of Palmer Road (SR 1465) | None | +1,003
Belews Creek | Approximately 0.9 mile upstream of the confluence with Dan River | None | +737 | Unincorporated Areas of Stokes County.
| Approximately 0.7 mile downstream of the confluence of East Belews Creek | None | +737
Tributary 2 | At the confluence with Belews Creek | None | +737 | Unincorporated Areas of Stokes County.
| Approximately 0.5 mile upstream of the confluence with Belews Creek | None | +737
Tributary 3 | At the confluence with Belews Creek | None | +737 | Unincorporated Areas of Stokes County.
| Approximately 0.9 mile upstream of the confluence with Belews Creek | None | +737
Tributary of Tributary 3 | At the confluence with Belews Creek Tributary 3 | None | +737 | Unincorporated Areas of Stokes County.
| At the Stokes/Rockingham County boundary | None | +737
Belews Lake | Entire shoreline within county | None | +737 | Unincorporated Areas of Stokes County.
Big Beaver Island Creek | Approximately 900 feet upstream of the confluence of Big Beaver Island Creek Tributary 12 | None | +768 | Unincorporated Areas of Stokes County.
| Approximately 1.3 miles upstream of Buffalo Road (SR 1636) | None | +860
Big Creek | At the confluence with Dan River | None | +768 | Unincorporated Areas of Stokes County.
| At the Stokes/Surry County boundary | None | +1,084
Tributary 1 | At the confluence with Big Creek | None | +1,023 | Unincorporated Areas of Stokes County.
| Approximately 0.6 mile upstream of Stevens Road (SR 1404) | None | +1,074
Tributary 2 | At the confluence with Big Creek | None | +1,065 | Unincorporated Areas of Stokes County.
| Approximately 1.3 miles upstream of the confluence with Big Creek | None | +1,124
Blackies Branch | At the confluence with Dan River | None | +655 | Unincorporated Areas of Stokes County.
| Approximately 1,700 feet upstream of the confluence with Dan River | None | +668
Brushy Fork Creek | At the confluence with Town Fork Creek | None | +873 | Unincorporated Areas of Stokes County.
| Approximately 0.8 mile upstream of Mountain View Church Road (SR 1998) | None | +873
Buffalo Creek (into Mayo River) | At the Stokes/Rockingham County boundary | None | +753 | Unincorporated Areas of Stokes County.
| Approximately 2.9 miles upstream of the Stokes/Rockingham County boundary | None | +822
Buffalo Creek (into Town Fork Creek) | At the confluence with Town Fork Creek | None | +662 | Unincorporated Areas of Stokes County.
| Approximately 0.5 mile upstream of the confluence with Town Fork Creek | None | +669
Bull Run | At the confluence with Town Fork Creek | None | +605 | Unincorporated Areas of Stokes County, Town of Walnut Cove.
| Approximately 0.9 mile upstream of Martin Luther King Jr. Road | None | +644
Coolico Creek (Morgan Pond) | At the confluence with Old Field Creek | None | +630 | Unincorporated Areas of Stokes County.
| Approximately 1.0 mile upstream of Easley Road (SR 1933) | None | +661
Crooked Creek | Approximately 1.6 miles upstream of mouth | None | +793 | Unincorporated Areas of Stokes County.
| Approximately 0.6 mile upstream of Frank Joyce Road (SR 1617) | None | +980
Crooked Run Creek | At the confluence with Little Yadkin River | None | +788 | Unincorporated Areas of Stokes County, City of King.
| Approximately 550 feet upstream of Maple Street | None | +1,070
Tributary | Approximately 160 feet upstream of the confluence with Crooked Run | +903 | +904 | Unincorporated Areas of Stokes County, City of King.
| Approximately 1,800 feet upstream of the confluence of Crooked Run Creek Tributary 2 of Tributary | None | +992
Tributary 2 of Tributary | Approximately 500 feet upstream of the confluence with Crooked Run Creek | None | +978 | City of King.
| Approximately 0.4 mile upstream of the confluence with Crooked Run Creek | None | +1,000
Dan River | Approximately 500 feet downstream of the confluence of Dan River Tributary 50 | None | +586 | Unincorporated Areas of Stokes County, Town of Danbury.
| Approximately 100 feet downstream of most upstream crossing of State boundary | None | +1,137
Tributary 48 | At the Stokes/Rockingham County boundary | None | +591 | Unincorporated Areas of Stokes County.
| Approximately 350 feet upstream of the Stokes/Rockingham County boundary | None | +593
Tributary 50 | At the confluence with Dan River | None | +586 | Unincorporated Areas of Stokes County.
| Approximately 0.8 mile upstream of U.S. Route 311 | None | +599
Tributary 51 | At the confluence with Dan River | None | +586 | Unincorporated Areas of Stokes County.
| Approximately 50 feet downstream of U.S. Route 311 | None | +586
Tributary 52 | At the confluence with Dan River | None | +597 | Unincorporated Areas of Stokes County.
| Approximately 0.3 mile upstream of Middleton Loop (SR 1909) | None | +608
Tributary 54 | At the confluence with Dan River | None | +610 | Unincorporated Areas of Stokes County.
| Approximately 0.7 mile upstream of the confluence with Dan River | None | +628
Tributary 56 | At the confluence with DanRiver | None | +616 | Unincorporated Areas of Stokes County.
| Approximately 0.5 mile upstream of the confluence with Dan River | None | +648
Tributary 57 | At the confluence with DanRiver | None | +712 | Unincorporated Areas of Stokes County.
| Approximately 0.5 mile upstream of the confluence with Dan River | None | +745
Tributary 58 | At the confluence with Dan River | None | +894 | Unincorporated Areas of Stokes County.
| Approximately 0.4 mile upstream of Collinstown Road (SR 1432) | None | +1,096
Tributary near Dodgetown Road | At the confluence with Dan River | None | +662 | Unincorporated Areas of Stokes County.
| Approximately 0.6 mile upstream of the confluence with Dan River | None | +679
Tributary near Mission Road | At the confluence with Dan River | None | +686 | Unincorporated Areas of Stokes County.
| Approximately 0.3 mile upstream of the confluence with Dan River | None | +691
Danbury Creek | At the confluence with Little Yadkin River | None | +850 | Unincorporated Areas of Stokes County, City of King.
| Approximately 1,000 feet upstream of Goff Road (SR 1138) | None | +895
East Prong Little Yadkin River | At the confluence with Little Yadkin River | None | +862 | Unincorporated Areas of Stokes County.
| Approximately 2.6 miles upstream of Volunteer Road (SR 1136) | None | +918
Elk Creek | At the confluence with Dan River | None | +849 | Unincorporated Areas of Stokes County.
| Approximately 100 feet downstream of the North Carolina/Virginia State boundary | None | +1,006
Eurins Creek | Approximately 300 feet upstream of the confluence with Dan River | None | +588 | Unincorporated Areas of Stokes. County
| Approximately 2.2 miles upstream of U.S. Route 311 | None | +657
Tributary 1 | At the confluence with Eurins Creek | None | +603 | Unincorporated Areas of Stokes County.
| Approximately 0.4 mile upstream of the confluence with Eurins Creek | None | +626
Tributary 2 | At the confluence with Eurins Creek | None | +604 | Unincorporated Areas of Stokes County.
| Approximately 0.6 mile upstream of the confluence with Eurins Creek | None | +627
Tributary 3 | At the confluence with Eurins Creek | None | +650 | Unincorporated Areas of Stokes County.
| Approximately 0.4 mile upstream of the confluence with Eurins Creek | None | +661
Flat Shoal Creek | At the confluence with Dan River | None | +684 | Unincorporated Areas of Stokes County, Town of Danbury.
| Approximately 0.3 mile upstream of Young Road (SR 1990) | None | +825
Fulk Creek | At the confluence with Dan River | None | +601 | Unincorporated Areas of Stokes County, Town of Walnut Cove.
| Approximately 1.5 miles upstream of U.S. Route 311 | None | +649
Goff Creek | At the confluence with Danbury Creek | None | +894 | Unincorporated Areas of Stokes County, City of King.
| Approximately 1,800 feet upstream of Brown Road (SR 1128) | None | +927
Grassy Creek Tributary 8 | At the Stokes/Surry County boundary | None | +918 | Unincorporated Areas of Stokes County.
| Approximately 1,100 feet upstream of the Stokes/Surry County boundary | None | +927
Leak Branch | At the confluence with Town Fork Creek | None | +703 | Unincorporated Areas of Stokes County.
| Approximately 50 feet upstream of the Stokes/Forsyth County boundary | None | +703
Lick Creek | At the confluence with Town Fork Creek | None | +609 | Unincorporated Areas of Stokes County, Town of Walnut Cove.
| At the Stokes/Forsyth County boundary | None | +647
Tributary (near Walnut Cove) | At the confluence with Lick Creek | None | +628 | Unincorporated Areas of Stokes County, Town of Walnut Cove.
| Approximately 900 feet upstream of the confluence with Lick Creek | None | +646
Lick Creek Tributary 1 | At the confluence with LickCreek | None | +646 | Unincorporated Areas of Stokes County
| At the Stokes/Forsyth County boundary | None | +647
Little Beaver Island Creek | Approximately 1.6 miles downstream of Dunlap Road (SR 1683) | None | +657 | Unincorporated Areas of Stokes County.
| Approximately 50 feet upstream of Franklin Moore Road (SR 1679) | None | +785
Little Crooked Creek | At the confluence with Crooked Creek | None | +839 | Unincorporated Areas of Stokes County.
| Approximately 1,900 feet upstream of Hope Beasley Road (SR 1615) | None | +933
Little Dan River | At the confluence with Dan River | None | +1,018 | Unincorporated Areas of Stokes County.
| Approximately 1,000 feet upstream of the confluence of Little Dan River Tributary 1 | None | +1,033
River Tributary 1 | At the confluence with Little Dan River | None | +1,029 | Unincorporated Areas of Stokes County.
| Approximately 0.9 mile upstream of the confluence with Little Dan River | None | +1,071
Little Neatman Creek | At the confluence with Neatman Creek | None | +779 | Unincorporated Areas of Stokes County.
| Approximately 0.6 mile upstream of the confluence with Neatman Creek | None | +807
Little Peter Creek | At the confluence with Peters Creek | None | +861 | Unincorporated Areas of Stokes County.
| Approximately 1,200 feet upstream of the confluence of Little Peter Creek Tributary | None | +1,004
Little Peter Creek Tributary | At the confluence with Peter Creek Tributary | None | +992 | Unincorporated Areas of Stokes County.
| Approximately 0.5 mile upstream of the confluence with Peter Creek Tributary | None | +1,015
Little Snow Creek | At the confluence with Snow Creek | None | +774 | Unincorporated Areas of Stokes County.
| Approximately 1.9 miles upstream of Moorefield Road (SR 1657) | None | +867
Little Yadkin River | Flooding affecting Stokes County approximately 850 feet east along county boundary from Little Yadkin River Tributary near Perch Road streamline | None | +776 | Unincorporated Areas of Stokes County.
| Approximately 1.0 mile upstream of High Bridge Road (SR 1157) | None | +948
Tributary 1 | At the confluence with the Little Yadkin River | None | +815 | Unincorporated Areas of Stokes County.
| Approximately 2,475 feet upstream of the confluence with Little Yadkin River | None | +821
Tributary 2 | At the confluence with Little Yadkin River | None | +833 | Unincorporated Areas of Stokes County.
| Approximately 0.4 mile upstream of Westmoreland Road (SR 1104) | None | +845
Tributary near Peach Road | At the Stokes/Forsyth County boundary | None | +775 | Unincorporated Areas of Stokes County.
| Approximately 0.5 mile upstream of the confluence with Little Yadkin River | None | +781
Lynn Branch | At the confluence with Snow Creek | None | +664 | Unincorporated Areas of Stokes County.
| Approximately 0.8 mile upstream of Duggins Road (SR 1696) | None | +712
Marshall Creek | At the confluence with Big Creek | None | +884 | Unincorporated Areas of Stokes County.
| Approximately 0.7 mile upstream of George Road (SR 1459) | None | +1,022
Martin Creek | At the confluence with Town Fork Creek | None | +642 | Unincorporated Areas of Stokes County.
| Approximately 0.8 mile upstream of Brook Core Road (SR 1941) | None | +687
Miles Creek | At the confluence with Town Fork Creek | None | +617 | Unincorporated Areas of Stokes County, Town of Walnut Cove.
| Approximately 2.5 miles upstream of East Road (SR 1937) | None | +800
Mill Creek | At the confluence with Dan River | None | +693 | Unincorporated Areas of Stokes County, Town of Danbury.
| Approximately 1.7 miles upstream of NC Route 8 | None | +820
Mill Creek (Hawkins Mill Creek) | At the confluence with Snow Creek | None | +750 | Unincorporated Areas of Stokes County.
| Approximately 1.7 miles upstream of the confluence of Snow Creek | None | +856
Neatman Creek | At the confluence with Town Fork Creek | None | +660 | Unincorporated Areas of Stokes County.
| Approximately 900 feet upstream of Flat Shoals Road (SR 2019) | None | +938
North Double Creek | At the confluence with Dan River | None | +758 | Unincorporated Areas of Stokes County.
| Approximately 3.1 miles upstream of NC Route 66 | None | +943
Old Field Creek | At the confluence with Tom Fork Creek | None | +624 | Unincorporated Areas of Stokes County.
| At the Stokes/Forsyth County boundary | None | +653 |
Paynes Branch | At the confluence with Town Fork Creek | None | &+715 | Unincorporated Areas of Stokes County.
| Approximately 50 feet upstream of the Stokes/Forsyth County boundary | None | &plus 780 |
Paynes Branch Tributary | At the confluence with Paynes Branch | None | &+736 | Unincorporated Areas of Stokes County.
| At the Stokes/Forsyth County boundary | None | &plus 863 |
Peters Creek | At the confluence with Dan River | None | &+805 | Unincorporated Areas of Stokes County.
| Approximately 200 feet downstream of the North Carolina/Virginia State boundary | None | &+1,015 |
Pinch Gut Creek | At the confluence with Big Creek | None | +916 | Unincorporated Areas of Stokes County.
| Approximately 1.3 miles upstream of Jackson Road (SR 1214) | None | &plus1,039 |
Red Bank Creek | At the confluence with Town Fork Creek | None | &+651 | Unincorporated Areas of Stokes County.
| At the Stokes/Forsyth County boundary | None | &+694 | &
Redman Creek | At the confluence with Snow Creek | None | &+674 | Unincorporated Areas of Stokes County.
| Approximately 1.7 miles upstream of the confluence with Snow Creek | None | &+814 | &
Reed Creek | Approximately 0.6 mile downstream of Reynolds Road (SR 1688) | None | &+606 | Unincorporated Areas of Stokes. County.
| Appoximately 0.7 mile upstream of NC Route 772 | None | +690 |
Scott Branch | At the confluence with Dan River | None | +694 | Unincorporated Areas of Stokes County, Town of Danbury.
| Approximately 500 feet upstream of NC Route 8 | None | +764 |
Seven Island Creek | At the confluence with Dan River | None | +708 | Unincorporated Areas of Stokes County.
| Approximately 800 feet upstream of Seven Island Road (SR 1665) | None | +708 |
Snow Creek | At the confluence with Dan River | None | +664 | Unincorporated Areas of Stokes County.
| Approximately 0.5 mile upstream of Moore Road (SR 1602) | None | +981 |
South Crooked Creek | At the confluence with Little Crooked Creek | None | +856 | Unincorporated Areas of Stokes County.
& | Approximately 1.5 miles upstream of the confluence with Little Crooked Creek | None | +918 |
South Double Creek | At the confluence with Dan River | None | +756 | Unincorporated Areas of Stokes County.
| Approximately 1.8 miles upstream of NC Route 66 | None | +864 |
South Double Creek Tributary | At the confluence with South Double Creek | None | +765 | Unincorporated Areas of Stokes County.
| Approximately 1.3 miles upstream of the confluence with South Double Creek | None | +804 |
Timmons Creek | At the confluence with Town Fork Creek | None | +751 | Unincorporated Areas of Stokes County.
| Approximately 0.9 mile upstream of State Road (SR 1966) | None | +809 |
Town Fork Creek Tributary 3 | At the confluence with Town Fork Creek | None | +626 | Unincorporated Areas of Stokes County
| Approximately 0.7 mile upstream of the confluence with Town Fork Creek | None | +641 |
Town Fork Creek | At the confluence with Dan River | None | +598 | Unincorporated Areas of Stokes County, Town of Walnut Cove.
| Approximately 300 feet upstream of Covington Road (SR 2009) | None | +957 |
Tributary 1 | At the confluence with Town Fork Creek | None | +610 | Unincorporated Areas of Stokes County, Town of Walnut Cove.
| Approximately 0.5 mile upstream of Ninth Street | None | +718 |
Tributary 2 | At the confluence with Town Fork Creek | None | +617 | Unincorporated Areas of Stokes County, Town of Walnut Cove.
| Approximately 1,600 feet upstream of NC Route 65 | None | +664 |
Tributary 4 | At the confluence with Town Fork Creek | None | +636 | Unincorporated Areas of Stokes County.
| Approximately 1,500 feet upstream of Brook Cove Road (SR 1941) | None | +652 |
Voss Creek | At the confluence with Town Fork Creek | None | +633 | Unincorporated Areas of Stokes County.
| Approximately 1,800 feet upstream of Rosebud Road (SR 1945) | None | +756 |
Voss Creek Tributary | At the confluence with Voss Creek | None | +661 | Unincorporated Areas of Stokes County.
| Approximately 1,400 feet upstream of the confluence with Voss Creek | None | +673 |
Watts Creek | At the confluence with Town Fork Creek | None | +642 | Unincorporated Areas of Stokes County.
| Approximately 1.4 miles upstream of Brook Cove Road (SR 1941) | None | +723
West Belews Creek | At the confluence with Belews Lake | None | +737 | Unincorporated Areas of Stokes County.
| At the Stokes/Forsyth County boundary | None | +737
West Prong Little Yadkin River | At the confluence with Little Yadkin River | None | +882 | Unincorporated Areas of Stokes County.
| Approximately 0.4 mile upstream of Brims Grove Road (SR 2109) | None | +1,002
West Prong Little Yadkin River Tributary | At the confluence with West Prong Little Yadkin River | None | +990 | Unincorporated Areas of Stokes County.
| Approximately 0.5 mile upstream of the confluence with West Prong Little Yadkin River | None | +1,006
Zilphy Creek | At the confluence with Dan River | None | +633 | Unincorporated Areas of Stokes County.
| Approximately 0.7 mile upstream of Power Dam Road (SR 1712) | None | +659
# Depth in feet above ground.
* National Geodetic Vertical Datum.
+ National American Vertical Datum
ADDRESSES
City of King
Maps are available for inspection at the King City Hall, 229 South Main Street, King, North Carolina.
Send comments to The Honorable Jack Warren, Mayor, City of King, P.O. Box 1132, King, North Carolina 27021.
Town of Danbury
Maps are available for inspection at the Danbury Town Hall, 201 Courthouse Circle, Danbury, North Carolina.
Send comments to The Honorable Jane Priddy-Charleville, Mayor, Town of Danbury, P.O. Box 4, Danbury, North Carolina 27016.
Town of Walnut Cove
Maps are available for inspection at the Walnut Cove Town Hall, 208 West Third Street, Walnut Cove, North Carolina.
Send comments to The Honorable Kenneth Starnes, Mayor, Town of Walnut Cove, P.O. Box 127, Walnut Cove, North Carolina 27052.
Unincorporated Areas of Stokes County
Maps are available for inspection at the Stokes County Government Center, 1012 Main Street, Danbury, North Carolina.
Send comments to Ms. Darlene Bullins, Stokes County Interim County Manager, Administration Building,1012 Main Street, Danbury, North Carolina 27016.
Knox County, Tennessee
Beaver Creek | Approximately 1.6 miles upstream of confluence with Clinch River | +797 | +796 | Knox County (Unincorporated Areas), City of Knoxville.
| Approximately 600 feet upstream of Tazewell Pike | None | +1,081
Berry Branch | At confluence with Lyon Creek | None | +881 | Knox County (Unincorporated Areas).
| Approximately 3,346 feet upstream of confluence with Lyon Creek | None | +889
Brice Branch | At confluence with Flat Creek | None | +946 | Knox County (Unincorporated Areas).
| Approximately 1,320 feet upstream of confluence with Flat Creek | None | +948
Burnett Creek | At confluence with French Broad River | None | +827 | Knox County (Unincorporated Areas).
| Approximately 763 feet upstream of John Sevier Highway | None | +865
Cliff Creek | At confluence with Lyon Creek | None | +849 | Knox County (Unincorporated Areas).
| Approximately 2.1 miles upstream of Randles Road | None | +985
Conner Creek | Just upstream of Rippling Drive | None | +796 | Knox County (Unincorporated Areas).
| Approximately 307 feet upstream of Conner Creek Circle | None | +960
Cox Creek | At confluence with Beaver Creek | None | +1,036 | Knox County (Unincorporated Areas).
| Approximately 701 feet upstream of Tazewell Road | None | +1,092
Tributary to Cox Creek | At confluence with Cox Creek | None | +1,044 | Knox County (Unincorporated Areas).
| Approximately 149 feet upstream of Cedarbreeze Road | None | +1,073
Echo Valley Tributary | At confluence with Ten Mile Creek | +875 | +876 | Knox County (Unincorporated Areas).
| Approximately 157 feet upstream of Echo Valley Road | None | +880
First Creek | At confluence with Tennessee River | +821 | +822 | City of Knoxville.
| Approximately 379 feet upstream of Knox Road | None | +967
Tributary No. 1 | At confluence with First Creek | None | +962 | City of Knoxville.
| Approximately 1,341 feet upstream of Rockcrest Road | None | +994
Tributary No. 2 | At confluence with First Creek | None | +962 | City of Knoxville.
| Approximately 1,011 feet upstream of Meadow Road | None | +985
Flat Creek | At confluence with Helston River | None | +848 | Knox County (Unincorporated Areas).
| Approximately 937 feet upstream of Longmire Road | None | +992
Fourth Creek | At confluence with Tennessee River | +818 | +819 | City of Knoxville.
| Approximately 227 feet upstream of Middlebrook Pike | +920 | +925
Tributary No. 1 | At confluence with Fourth Creek | +835 | None | City of Knoxville.
| Approximately 365 feet upstream of Lawford Road | +836 | +922
Tributary No. 3 | At confluence with Fourth Creek | None | +915 | City of Knoxville.
| Approximately 586 feet upstream of Picadilly Road | None | +947
French Broad | At confluence with French Broad | +826 | +825 | Knox County (Unincorporated Areas), City of Knoxville.
| At Knox County boundary | None | +860
Grassy Creek | At confluence with Beaver Creek | +974 | +973 | Knox County (Unincorporated Areas), City of Knoxville.
| Approximately 0.55 mile upstream of Grassy Creek Way | None | +1,024
Grassy Creek Tributary | At confluence with Grassy Creek | None | +993 | Knox County (Unincorporated Areas).
| Approximately 1.0 mile upstream of Johnson Road | None | +1,016
Hickory Creek | Approximately 500 feet upstream of Campbell Street | None | +926 | Knox County (Unincorporated Areas).
| Approximately 4,281 feet upstream of Cooper Lane | None | +1,025
Hines Branch | At confluence with Beaver Creek | None | +1,014 | Knox County (Unincorporated Areas), City of Knoxville.
| Approximately 1,835 feet upstream of Mynatt Drive | None | +1,078
Hines Creek | At confluence with French Broad River | None | +832 | Knox County (Unincorporated Areas).
| Approximately 0.44 mile upstream of Old Sevierville Pike | None | +921
Tributary to Hines Creek | At confluence with Hines Creek | None | +902 | Knox County (Unincorporated Areas).
| Approximately 0.47 mile upstream of confluence with Hines Creek | None | +919
Kerns Branch | At confluence with Beaver Creek | None | +1,058 | Knox County (Unincorporated Areas).
| Approximately 842 feet upstream of Majors Road | None | +1,130
Knob Creek | At confluence with Tennessee river | None | +818 | Knox County (Unincorporated Areas), City of Knoxville.
| Approximately 0.6 mile upstream of Martin Mill Pike | None | +903
Knob Fork | At confluence with Beaver Creek | +995 | +994 | Knox County (Unincorporated Areas).
| Approximately 183 feet upstream of Fountain City Road | None | +1,080
Limestone Creek | At confluence with Tuckahoe creek | None | +872 | Knox County (Unincorporated Areas).
| Approximately 1,736 feet upstream of Smith School Road | None | +889
Little Flat Creek | At confluence with Flat Creek | None | +965 | Knox County (Unincorporated Areas).
| Approximately 0.8 mile upstream of Clement Road | None | +1,042
Little Turkey Creek | At the confluence with Turkey Creek | +815 | +816 | Knox County (Unincorporated Areas), Town of Farragut.
| Approximately 900 feet upstream of Brochardt Boulevard | None | +916
Little Turkey Creek Tributary | At confluence with Little Turkey Creek | None | +908 | Town of Farragut.
| Approximately 131 feet upstream of Hickory Woods Road | None | +947
Love Creek Tributary | At confluence with Love Creek | None | +836 | City of Knoxville.
| Approximately 1,086 feet upstream of Chilhavee Cant | None | +867
Lyon Creek | At confluence with Holsten River | None | +849 | Knox County (Unincorporated Areas)
| Approximately 461 feet upstream of Carter Mill Drive | None | +987
Mill Branch | At confluence with Willow Fork | +1,024 | +1,027 | Knox County (Unincorporated Areas), City of Knoxville.
| Approximately 440 feet upstream of Maynardville Pike | None | +1,142
Murphy Creek | Approximately 4,700 feet downstream of Southern Railway | +975 | +974 | Knox County (Unincorporated Areas).
| Approximately 1,350 feet upstream of Link Road | None | +1,087
North Fork Beaver Creek | At confluence with Beaver Creek | +1,015 | +1,018 | Knox County (Unincorporated Areas).
| Approximately 128 feet upstream of McCloud Road | None | +1,096
North Fork Turkey Creek | Approximately 2,444 feet downstream of Kingston Pike | +853 | +852 | Town of Farragut.
| Approximately 1,375 feet upstream of Grigsby Chapel Road | None | +944
Plumb Creek | Approximately 560 feet downstream of Hardin Valley Road | +940 | +941 | Knox County (Unincorporated Areas).
| Approximately 146 feet upstream of Hickey Road | None | +977
Roseberry Creek | Approximately 1,200 feet upstream of confluence with Holsten River | +846 | +845 | Knox County (Unincorporated Areas), City of Knoxville.
| Approximately 1,352 feet upstream of Maloneyville Road | None | +1,030
Sinking Creek | At confluence with Tennessee River | None | +817 | Knox County (Unincorporated Areas).
| Approximately 1,200 feet upstream of Wallace Road | None | +913
Sinking Creek Tributary to Ten Mile Creek | At confluence with Ten Mile Creek | +894 | +900 | Knox County (Unincorporated Areas).
| Approximately 396 feet upstream of Middlebrook Pike | None | +997
Sixmile Branch | At end of Burnett Creek | None | +865 | Knox County (Unincorporated Areas).
| Approximately 636 feet upstream of East Maine Drive | None | +908
South Fork Beaver Creek | At confluence with Beaver Creek | None | +1,074 | Knox County (Unincorporated Areas).
| Approximately 392 feet upstream of Maloneyville Road | None | +1,107
Stock Creek | Approximately 1.23 miles downstream of Martin Mill Pike | +820 | +819 | Knox County (Unincorporated Areas).
| Approximately 58 feet upstream of McCammon Road | None | +892
Swanpond Creek | At a point just downstream of Huckleberry Springs Road | +933 | +932 | Knox County (Unincorporated Areas).
| Approximately 3,200 feet upstream of Wooddale Church Road | None | +996
Ten Mile Creek | At confluence with Ebenizers Sinkhole | +878 | +876 | Knox County (Unincorporated Areas), City of Knoxville.
| Approximately 0.5 mile upstream of Robinson Road | None | +967
Thompson School Tributary | At confluence with Beaver Creek | None | +1,067 | Knox County (Unincorporated Areas).
| Approximately 545 feet upstream of East Emory Road | None | +1,086
Tuckahoe Creek | At confluence with French Broad River | None | +850 | Knox County (Unincorporated Areas).
| Approximately 3,396 feet upstream of Dave Smith Road | None | +906
Turkey Creek | At confluence with Tennessee River | None | +816 | Knox County (Unincorporated Areas), Town of Farragut.
| Approximately 1,606 feet upstream of Dutchtown Road | +815 | +960
West Hills Tributary | At confluence with Ten Mile Creek | +899 | +902 | Knox County (Unincorporated Areas), City of Knoxville.
| Approximately 295 feet upstream of Corteland Drive | None | +931
Whites Creek | At confluence with First Creek | +955 | +957 | Knox County (Unincorporated Areas), City of Knoxville.
| Approximately 0.6 mile upstream of Clearbrook Road | None | +989
Williams Creek | At confluence with Tennessee River | +822 | +823 | City of Knoxville.
| Approximately 451 feet upstream of Wilson Avenue | None | +898
Willow Fork | At confluence with Beaver Creek | +1,022 | +1,027 | Knox County (Unincorporated Areas).
| Approximately 628 feet upstream of Brackett Road | None | +1,093
Little River | At confluence with Tennessee River | +817 | +818 | Knox County (Unincorporated Areas), City of Knoxville.
| Approximately 0.77 mile upstream of Alro Highway | None | +819
Tennessee River | Approximately 28.0 miles downstream of Pellissippi Parkway | +815 | +816 | Knox County (Unincorporated Areas), City of Knoxville.
| Just upstream of confluence of Williams Creek | +822 | +823
# Depth in feet above ground.
* National Geodetic Vertical Datum.
+ National American Vertical Datum.
ADDRESSES
Town of Farragut
Maps available for inspection at the Farragut Town Hall, Engineering Department, 11408 Municipal Center Drive, Farragut, Tennessee.
Send comments to Mr. Dave Olson, Farragut Town Administrator, Farragut Town Hall, Administration Department, 11408 Municipal Center Drive, Farragut, Tennessee 37922.
Knox County (Unincorporated Areas)
Maps available for inspection at Knox County Engineering and Public Works, 205 West Baxter Avenue, Knoxville, Tennessee.
Send comments to The Honorable Michael R. Ragsdale, Mayor of Knox County, Office of County Mayor, 400 West Main Street, Suite 615, Knoxville, Tennessee 37902.
City of Knoxville
Maps available for inspection at the City of Knoxville Engineering Division, City County Building, 400 Main Street, Room 480, Knoxville, Tennessee.
Send comments to the Honorable Bill Haslam, Mayor of the City of Knoxville, P.O. Box 1631, Knoxville, Tennessee 37901.

(Catalog of Federal Domestic Assistance No. 83.100, “Flood Insurance.”)

Dated: October 5, 2006.
David I. Maurstad,
Director, Mitigation Division, Federal Emergency Management Agency, Department of Homeland Security.

[FR Doc. E6-17266 Filed 10-16-06; 8:45 am]

BILLING CODE 9110-12-P